DEPARTMENT OF HEALTH AND HUMAN SERVICES

Administration for Children and Families

Proposed Information Collection Activity; Comment Request

Title: Evaluation of the Head Start Safe Families Safe Homes Training Curriculum.

OMB No.: New Collection.

Description: The purpose of this collection is to examine the implementation of the Head Start Safe Families Safe Homes domestic violence training curriculum. The Office of Head Start, within the Administration for Children and Families (ACF) of the Department of Health and Human Services (HHS), is partnering with the Division of Family Violence Prevention of the Family and Youth Services Bureau of the Administration on Children, Youth and Families, also located within ACF, in an effort to expand the knowledge base of Head Start staff and build stronger partnerships with domestic violence service providers in local communities. Teams of trainers in each of five states will lead training sessions for 50 participants. The follow-up evaluation will examine implementation of the training curriculum; changes in participant knowledge and changes in communication; collaboration; and service delivery related to domestic violence. All participants in the local trainings will be asked to complete several brief surveys, which will be conducted online or by phone. A subsample of participants will also be asked to complete a semi-structured phone interview.

Respondents: Head Start staff.

Annual Burden Estimates
Instrument | Annual number of respondents | Number of responses per respondent | Average burden hours per response | Total annual burden hours
Knowledge of Domestic Violence Survey | 250 | 1 | .25 | 63
Collaboration Quality Survey | 250 | 1 | .25 | 63
Services & Referrals Survey | 250 | 1 | .125 | 31
Domestic Violence Knowledge, Attitudes, and Practices: Semi-Structured Interview | 20 | 1 | .5 | 10

Estimated Total Annual Burden Hours: 167.

In compliance with the requirements of Section 3506(c)(2)(A) of the Paperwork Reduction Act of 1995, ACE is soliciting public comment on the specific aspects of the information collection described above. Copies of the proposed collection of information can be obtained and comments may be forwarded by writing to the Office of Planning, Research and Evaluation, ACE, 370 L'Enfant Promenade, SW., Washington, DC 20447, Attn: OPRE Reports Clearance Officer. E-mail address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: January 6, 2011.
Steven M. Hanmer,
Reports Clearance Officer.

[FR Doc. 2011-412 Filed 1-12-11; 8:45 am]

BILLING CODE 4184-01-M